DEPARTMENT OF HOMELAND SECURITY

Federal Emergency Management Agency

[Docket ID FEMA-2019-0002; Internal Agency Docket No. FEMA-B-1921]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before July 29, 2019.

ADDRESSES: The Preliminary FIRM, and where applicable, the FIS report for each community are available for inspection at both the online location https://www.fema.gov/preliminary floodhazarddata and the respective Community Map Repository address listed in the tables below. Additionally, the current effective FIRM and FIS report for each community are accessible online through the FEMA Map Service Center at https://msc.fema.gov for comparison.

You may submit comments, identified by Docket No. FEMA-B-1921, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminary floodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Mobile County, Alabama and Incorporated Areas
Project: 09-04-8023S Preliminary Date: March 15, 2019
City of Creola | City Hall, 9615 Old Highway 43, Creola, AL 36525.
City of Mobile | City Hall, Engineering Department, 205 Government Street, Mobile, AL 36644.
City of Saraland | City Hall, 933 Saraland Boulevard South, Saraland, AL 36571.
City of Satsuma | City Hall, 5464 Old Highway 43, Satsuma, AL 36572.
Unincorporated Areas of Mobile County | Mobile County Government Plaza, Department of Public Works, Engineering Department, 205 Government Street, Mobile, AL 36644.
Cleveland County, Oklahoma and Incorporated Areas
Project: 13-06-1180S Preliminary Date: January 16, 2019
City of Norman | City Hall, Public Works Department, 201 West Gray Street, Building A, Norman, OK 73069.
City of Oklahoma City | Public Works Department, 420 West Main Street, Suite 700, Oklahoma City, OK 73102.
Wyoming County, Pennsylvania (All Jurisdictions)
Project: 16-03-0615S Preliminary Date: August 30, 2018
Borough of Laceyville | Municipal Building, 342 Church Street, Laceyville, PA 18623.
Borough of Meshoppen | Municipal Building, 154 Oak Street, Meshoppen, PA 18630.
Borough of Tunkhannock | Municipal Building, 126 Warren Street, Tunkhannock, PA 18657.
Township of Braintrim | Braintrim Municipal Building, 220 Main Street, Laceyville, PA 18623.
Township of Eaton | Eaton Municipal Building, 1331 Hunter Highway, Tunkhannock, PA 18657.
Township of Exeter | Exeter Municipal Building, 2690 Sullivans Trail, Falls, PA 18615.
Township of Falls | Municipal Building, 220 Buttermilk Road, Falls, PA 18615.
Township of Mehoopany | Municipal Building, 237 Schoolhouse Road, Mehoopany, PA 18629.
Township of Meshoppen | Municipal Building, 527 Benninger Road, Meshoppen, PA 18630.
Township of Northmoreland | Northmoreland Municipal Building, 15 Municipal Lane, Dallas, PA 18612.
Township of Tunkhannock | Municipal Building, 113 Tunkhannock Township Drive, Tunkhannock, PA 18657.
Township of Washington | Washington Municipal Building, 184 Keiserville Road, Tunkhannock, PA 18657.
Township of Windham | Windham Municipal Building, 149 Palen Street, Mehoopany, PA 18629.
Madison County, Virginia and Incorporated Areas
Project: 18-03-0007S Preliminary Date: July 23, 2018
Unincorporated Areas of Madison County | Madison County Administrative Center, 414 North Main Street, Madison, VA 22727.
Rappahannock County, Virginia and Incorporated Areas
Project: 18-03-0006S Preliminary Date: July 23, 2018
Town of Washington | Town Hall, 485 Gay Street, Washington, VA 22747.
Unincorporated Areas of Rappahannock County | Rappahannock County Zoning Administrator Office, 311H Gay Street, Washington, VA 22747.

[FR Doc. 2019-08730 Filed 4-29-19; 8:45 am]

BILLING CODE 9110-12-P